DEPARTMENT OF EDUCATION

Proposed Collection; Comment Request

AGENCY: Department of Education.

ACTION: Correction notice.

SUMMARY: On March 12, 2004, the Department of Education published a 60-day public comment period notice in the Federal Register (Page 11846, Column 3) for the information collection, “Free Application for Federal Student Aid (FAFSA) for the 2005-2006 award year”. Due to the extent of public interest in changes proposed to the 2005-2006 FAFSA, the public is asked to submit electronic comments to a mailbox established at fafsa0506@ed.gov.

DATES: Interested persons are invited to submit comments on or before May 11, 2004.

ADDRESSES: Written comments and requests for copies of the proposed information collection requests may be submitted by regular mail and should be addressed to Joseph Schubart, Department of Education, 400 Maryland Avenue, SW., Room 4050, Regional Office Building 3, Washington, DC 20202-4651.

Interested persons can access this document on the Internet:

(1) Go to IFAP at http://ifap.ed.gov;

(2) Scroll down to “Publications”;

(3) Click on “FAFSAs and Renewal FAFSAs”;

(4) Click on “By 2005-2006 Award Year”;

(5) Click on “Draft FAFSA Form/Instructions”.

Please note that the free Adobe Acrobat Reader software, version 4.0 or greater, is necessary to view this file. This software can be downloaded for free from Adobe's Web site: http://www.adobe.com.

FOR FURTHER INFORMATION CONTACT: Joseph Schubart (202) 708-9266. Individuals who use a telecommunications device for the deaf (TDD) may call the Federal Information Relay Service (FIRS) at 1-800-877-8339 between 8 a.m. and 8 p.m., Eastern time, Monday through Friday.

Dated: March 26, 2004.
Angela C. Arrington,
Leader, Regulatory Information Management Group, Office of the Chief Information Officer.

[FR Doc. 04-7168 Filed 3-30-04; 8:45 am]

BILLING CODE 4000-01-P